DEPARTMENT OF TRANSPORTATION

Federal Aviation Administration

[Docket No. FAA-2000-7937]

Runway Safety Areas

AGENCY: Federal Aviation Administration (FAA), DOT.

ACTION: Request for comments.

SUMMARY: Section 514 of the FAA Reauthorization Act of 2000 requires the FAA to solicit comments on the need for improvement of runway safety areas through the use of engineered material arresting systems, longer runways, and such other alternatives as the Administrator considers appropriate. This notice is being issued in response to that legislative requirement.

DATES: Comments must be received on or before December 19, 2000.

ADDRESSES: Address your comments to the Docket Management System, U.S. Department of Transportation, Room Plaza 401, 400 Seventh Street, SW., Washington, DC 20590-0001. You must identify the docket number FAA-2000-7937 at the beginning of your comments. If you wish to receive confirmation that FAA received your comments, include a self-addressed stamped postcard.

You may also submit comments through the Internet to http://dms.dot.gov/. You may review the public docket containing comments to these proposed regulations in person in the Dockets Office between (9:00 a.m. and 5:00 p.m.), Monday through Friday, except Federal holidays. The Dockets Office is on the plaza level of the Nassif Building at the Department of Transportation at the above address. Also you may review the comments on the Internet at http://dms.dot.gov.

FOR FURTHER INFORMATION CONTACT: Robert E. David, AAS-300, Airport Safety and Operations Division, Office of Airport Safety and Standards, Federal Aviation Administration, 800 Independence Avenue, SW., Washington, DC 20591, telephone (202) 267-3085.

SUPPLEMENTARY INFORMATION:

Comments Invited

Interested parties are invited to comment on the need to improve runway safety areas and the alternatives outlined in this notice that the FAA considers in determining whether or not it is practicable to improve a particular runway safety area. The FAA is also interested in receiving comments that identify other alternatives that may be used to improve runway safety areas. Comments on the costs associated with implementing any of these measures are also invited.

Comments must identify the docket number and be submitted in duplicate to the DOT Rules Docket address specified above. The docket is available for inspection before and after the comment closing date.

Background

In the early years of aviation, all airplanes operated from relatively unimproved airfields. As aviation developed, the alignment of takeoff and landing paths became centered on a well-defined area known as a landing strip. Thereafter, the requirements of more advanced airplanes necessitated improving or paving the center portion of the landing strip. The term “landing strip” was retained to describe the graded area surrounding and upon which the runway or improved surface was constructed. The primary role of a landing strip changed to that of a safety area surrounding a runway. Later, the designation of the area was changed to “Runway Safety Area,” and the distance it extended beyond the runway end was lengthened to reflect its functional role.

Prior to conducting an aircraft operation on a runway, a pilot is responsible for determining that the runway length and width is sufficient for the operation. The presence or absence of a runway safety area (RSA) is not part of this determination. The RSA is considered a safety enhancement that is beneficial if something abnormal occurs during the takeoff or landing.

The RSA enhances the safety of airplanes that undershoot, overrun, or veer off the runway. It provides greater flexibility and access for firefighting and rescue equipment during such incidents. RSAs extend along the sides and beyond the end of the runway and are capable, under normal (dry) conditions, of supporting airplanes without causing substantial damage to the airplanes or injury to their occupants. RSAs are cleared, graded, and have no potentially hazardous ruts, humps, depressions, or other surface variations. The only objects allowed in the RSA are those which are fixed by their function, such as an approach light system that provides pilots with visual navigation to the runway's end. These objects are as frangible as practical so that they will break away when hit by an aircraft, thereby minimizing the damage to the aircraft and reducing the risk of injuries to its occupants.

Standards for RSAs

The dimensional standards for RSAs vary according to the type of aircraft that the runway is intended to seve and visibility minimums associated with the runway. For example, the standard for the RSA for runways designed for visual approaches by small general aviation aircraft is an area 120 feet wide that extends 240 feet beyond each end of the runway. For larger aircraft the standard for an RSA is an area 500 feet wide that extends 1000 feet beyond each end of the runway. As a rule of thumb, the RSA length beyond the runway end is twice the RSA width.

The FAA's current design standards for RSAs are contained in Advisory Circular (AC) 150/5300-13, Airport Design (This advisory circular is available on the web: http://www.faa.gov/arp). The RSA dimensional standards have increased over the last thirty years as aircraft have become larger and faster. As with any change in standards, it is difficult for many existing airports to meet to the changed standards.

The FAA's policy is that these airports must improve the RSA for each runway, to the extent practicable, whenever the airport operator undertakes construction work on that runway.

Considerations in Determining Practicability

In determining the practicability of obtaining or improving RSAs, there are many factors that could affect the viability of the alternative. What may be viable at one airport may not be viable at another. Factors to be considered include:

a. Historical records of airport accidents/incidents.

b. The airport plans as reflected in current and forecast volume of passengers and operations, percent runway use, both of all weather and IFR operations; and the design aircraft, i.e., the aircraft category for which the runway length is based.

c. The extent to which the existing RSA complies with the standard. High performance aircraft, operating at higher loads and speeds have greater requirements than small, low performance aircraft.

d. Site constraints. These include, for example, precipitous terrain dropoff, the existence of bodies of water, wetlands, a major highway, a railroad at a runway end, etc.

e. Weather and climatic conditions. These include conditions such as low visibility, rain, snow, and ice and the frequency of these conditions. Overruns on contaminated runways constitute a significant percentage of runway excursions.

f. Availability of visual and electronic aids for landing.

Alternatives for Improving RSA's

The FAA believes that wherever it is practicable an airport operator should construct a safety area that complies with the standards contained in Advisory Circular 150/5300-13. Accomplishing this may involve land acquisition, grading, obstacle removal/relocation, and environmental mitigation. When it is not practicable to obtain the entire RSA in this manner, then the airport operator should obtain as much safety area as is possible.

When it is not possible to obtain the entire RSA as specified above, then the airport operator should consider the following alternatives. The applicability and practicability of these alternatives will vary depending upon the specific situation. In some instances it may be practicable to use these alternatives in combination with each other to obtain the RSA. A brief description of each alternative is provided.

a. Shifting, Realignment, or Relocation of the Runway

Shifting involves moving the runway along its extended runway centerline. This alternative may be applicable where land that could be used for RSA is available on one end of the runway but not on the other.

Realignment involves reorienting the runway heading at its present site. Generally, this alternative is only feasible if the entire runway is undergoing a major rehabilitation and the runway is not part of a parallel runway system.

Relocation involves moving the physical location of the runway. This alternative is practicable if sufficient land exists on the airport or adjacent to it for the construction of the relocated runway. The runway may have the same or a different orientation from the existing runway.

b. Reduction in Runway Length

This alternative is applicable where the existing runway length exceeds that which is required for the current or projected design aircraft operations. The alternative involves reducing the physical length of the pavement by removing pavement or marking it as unusable. This alternative may be applicable at a military base that has been transferred to civilian use or an air carrier airport that has been replaced with a new airport for the air carriers but remains open for use by general aviation aircraft.

c. Declared Distances

This alternative is applicable where the existing runway length exceeds that which is required for the current or projected design aircraft operations. This alternative involves the airport operator declaring that a length less than the actual pavement length is available for landing or accelerate-stop distance calculations. For example, if a runway is 7000 feet in length, an airport operator may declare that only 6000 feet is available for landing or takeoff. The pilot then calculates his/her landing distance and accelerate-stop distance based upon 6000 feet, thereby providing an effective RSA of 1000 feet at the end of the runway. The 1000 feet of runway that is not available for use in the one direction may be available for operations in the other direction on the runway. (Note: this is how the declared distance alternative differs from the reduction in runway length alternative discussed in paragraph b.) Additional information on declared distances is contained in Appendix 14 of AC 150/5300-13.

d. Engineered Material Arresting Systems (EMAS)

This alternative provides a way to enhance safety when it is not practicable to obtain a full RSA through the preceding alternatives. It is only applicable to aircraft overruns. EMAS is a passive system consisting of material designed to decelerate an aircraft passing through it. Advisory Circular 150/5220-22, Engineered Materials Arresting Systems for Aircraft Overruns contains additional information on EMAS (This advisory circular is available on the web: htts://www.faa.gov/arp). EMAS is not a substitute for, nor equivalent to any length or width of runway safety area. It is placed off the end of the runway centered upon the extended runway centerline. The width of the EMAS installation is the same as the width of the runway while its length is dependent upon the design aircraft and amount of land area available beyond the end of the runway.

Issued in Washington, D.C. on September 13, 2000.
David L. Bennett,
Director, Office of Airport Safety and Standards.

[FR Doc. 00-24147 Filed 9-19-00; 8:45 am]

BILLING CODE 4910-13-M